DEPARTMENT OF ENERGY

Federal Energy Regulatory Commission

[Project No. 12721-005]

Pepperell Hydro Company, LLC; Notice of Intent To File License Application, Filing of Pre-Application Document, and Approving Use of the Traditional Licensing Process

a. Type of Filing: Notice of Intent to File License Application and Request to Use the Traditional Licensing Process.

b. Project No.: 12721-005.

c. Date Filed: October 11, 2012 (revised on October 19, 2012).

d. Submitted By: Pepperell Hydro Company, LLC.

e. Name of Project: Pepperell Hydroelectric Project.

f. Location: On the Nashua River, in Middlesex County, Massachusetts. The project would not occupy lands of the United States.

g. Filed Pursuant to: 18 CFR 5.3 of the Commission's regulations.

h. Potential Applicant Contact: Mr. Peter Clark, Pepperell Hydro Company, LLC, P.O. Box 149, Hamilton, MA 01936, (978) 468-3999.

i. FERC Contact: Brandon Cherry, (202) 502-8328, or via email at brandon.cherry@ferc.gov.

j. Pepperell Hydro Company, LLC filed its request to use the Traditional Licensing Process on October 11, 2012 (revised on October 19, 2012). Pepperell Hydro Company, LLC provided public notice of its request on October 19 and 26, 2012. In a letter dated November 29, 2012, the Director of the Division of Hydropower Licensing approved the request to use the Traditional Licensing Process.

k. With this notice, we are initiating informal consultation with: (a) The U.S. Fish and Wildlife Service and/or NOAA Fisheries under section 7 of the Endangered Species Act and the joint agency regulations thereunder at 50 CFR, Part 402; (b) NOAA Fisheries under section 305(b) of the of the Magnuson-Stevens Fishery Conservation and Management Act and implementing regulations at 50 CFR 600.920; and (c) the Massachusetts Historical Commission, as required by section 106 of the National Historical Preservation Act, and the implementing regulations of the Advisory Council on Historic Preservation at 36 CFR 800.2.

l. On November 20, 2012, Pepperell Hydro Company, LLC filed a Pre-Application Document (PAD) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov or toll free at 1-866-208-3676, or for TTY, (202) 502-8659.

n. Register online at http://www.ferc.gov/docs-filing/esubscription.asp to be notified via email of new filing and issuances related to this or other pending projects. For assistance, contact FERC Online Support.

Dated: November 29, 2012.
Kimberly D. Bose,
Secretary.

[FR Doc. 2012-29809 Filed 12-10-12; 8:45 am]

BILLING CODE 6717-01-P